DEPARTMENT OF COMMERCE

Census Bureau

15 CFR Part 50

[Docket Number: 260202-0037]

RIN 0607-AA65

Age Search Service Fee Structure

AGENCY: Census Bureau, Department of Commerce.

ACTION: Notice of proposed rulemaking and request for comments.

SUMMARY: The Census Bureau provides an Age Search service of confidential records from the 1910 to 2020 decennial censuses and can issue an official transcript of the results to authorized individuals. With this rule, the Census Bureau is proposing to increase the fee for conducting an Age Search from $65.00 to $155.00. The Census Bureau is also proposing to increase the additional charge for expedited requests requiring search results within one day from $20.00 per case to $50.00 per case. These changes are needed to reflect the actual operating costs associated with processing an Age Search request which were last revised in 2004.

DATES: Written comments must be submitted on or before April 24, 2026.

ADDRESSES: Interested parties may submit comments to the Census Bureau by any of the following methods:

• Visit the Regulations.gov website at: http://www.regulations.gov and search for the Docket Number USBC-2025-0005. Please follow the instructions at that site for submitting comments.

• Email: fld.decennial.oversight@census.gov. You must include “Docket Number USBC-2025-0005” in the subject line of your message.

• Mail: Deputy Director, National Processing Center, U.S. Census Bureau, 1201 East 10th Street, Building 63A DO, Jeffersonville, IN 47132.

FOR FURTHER INFORMATION CONTACT: Contact the Age Search service help line by telephone at 812-218-3046, or by mail at U.S. Census Bureau, P.O. Box 1545, Jeffersonville, IN 47131.

SUPPLEMENTARY INFORMATION:

Background

Age Search allows individuals to request transcripts of their confidential census records before they are released to the public. Historically, these records have been used by people who may not have had a birth certificate to prove their age as statewide registration and reporting of births did not happen consistently in all states until the early 1930s.

The Age Search census transcript provides proof of age to qualify individuals for Social Security or other retirements benefits; secondary proof of citizenship to apply for passports;¹ proof of family relationships for documentation related to rights of inheritance; or to satisfy other situations where a birth certificate is required but not available. Individuals may request the Age Search service to access their own records. Census information is confidential and ordinarily will not be furnished to another person unless the person to whom it relates authorizes this on the application or if the record requested is that of a minor child, mentally incompetent person, or deceased person. In the latter two cases, the application must be accompanied by additional documentation, such as court orders naming the legal representative. The censuses in custody of the Census Bureau are confidential and protected from disclosure by 13 U.S.C. 9. No transcript of any record will be furnished that would violate statutes requiring that information furnished to the Census Bureau be held confidential and not used to the detriment of the person to whom it relates.

¹ See guidance provided by the U.S. Department of State at https://travel.state.gov/content/travel/en/passports/how-apply/citizenship-evidence.html.

The Age Search service is designed to be a self-supporting operation, conducted in accordance with 13 U.S.C. 8(a). Under this statute, all expenses incurred in the retrieval of personal information from decennial census records and the preparation of decennial census transcripts are intended to be covered by fees paid by individuals who request this service. To help maintain the self-supporting financial status of this service as operating costs increase, the Census Bureau proposes an update to the August 2004 rule, 04-17359 (69 FR 45579), for the fee structure.

Program Requirements

The Census Bureau proposes the following amendment to 15 CFR part 50:

• Amend 15 CFR 50.5 to update the fee structure for age search and citizenship information. The Census Bureau proposes increasing the fee structure for searches of one census for one person and producing one transcript from $65.00 to $155.00. The Census Bureau also proposes increasing the additional charge per case for expedited requests requiring search results within one day from $20.00 to $50.00. The new fee structure was calculated using 1,614 average annual requests, the 2 hours on average needed to process each request, and the 2025 hourly rates of the two GS-5 employees who currently respond to these requests.

Regulatory Flexibility Act

The Chief Counsel for Regulation of the Department of Commerce certifies to the Chief Counsel for Advocacy of the Small Business Administration that this proposed rule, if adopted, would not have a significant economic impact on a substantial number of small entities. Most, if not all, respondents affected by the proposed fee increase are individuals, not small or large businesses. Those businesses who will be affected will only be impacted minimally. The projected number of individual Age Search cases is 1,614 for fiscal year 2025.

A unique characteristic of the Age Search service is its self-supporting design. Congress passed a law in 1954 that stipulated that this service be funded by the individuals requesting the service (13 U.S.C. 8[a]). The National Processing Center does not receive any federal appropriations or tax monies for the Age Search service. Consequently, the searching process of the census records and associated operating costs are designed to be funded by the fees received with the applications.

Due to increases in operating costs since the last Age Search fee increase in 2004, and to help maintain the self-supporting financial status, it has become necessary to propose a fee increase. The Census Bureau proposes increasing the fee structure for searches of one census for one person and producing one transcript from $65.00 to $155.00. The Census Bureau also proposes increasing the additional charge per case for expedited requests requiring search results within one day from $20.00 to $50.00. These changes are being made to reflect the actual operating costs associated with processing an Age Search request. The new fee structure was calculated using the average annual number of requests, the average number of hours needed to process each request, and the 2025 hourly rates of the employees responding to the requests.

Executive Orders

This rule has been determined to be significant for purposes of Executive Order 12866. This rule does not contain policies with federalism implications as that term is defined in Executive Order 13132. This rule is not expected to be an E.O. 14192 regulatory action because it does not impose any more than de minimis regulatory costs.

Paperwork Reduction Act

In accordance with the Paperwork Reduction Act of 1995 (44 U.S.C. Chapter 35), this notice also announces the Census Bureau's intent to reinstate an expired information collection under OMB Control Number 0607-0117. To access a copy of the expired collection, including all supporting materials, please see www.reginfo.gov/public/do/PRAMain and type in the OMB Control Number.

This proposed rule makes changes to the collection, including:

• A decrease in burden from 531 hours to 353.4 hours due to fewer annual respondents.

• A fee structure change per the changes proposed in the rule.

In addition, the Census Bureau is proposing to make minor updates to the forms such as adding the 2020 Census as a choice for a census record search.

Written comments and recommendations for the proposed information collection should be sent within 60 days of publication of this rule. Please be advised that the substance of the comments and the identity of the individuals or entities submitting the comments will be subject to public disclosure and will be available via http://www.regulations.gov.

We are soliciting comments from the public concerning our information collection and recordkeeping requirements. These comments will help us:

(1) Evaluate whether the information collection is necessary for the proper performance of our agency's functions, including whether the information will have practical utility;

(2) Evaluate the accuracy of our estimate of the burden of the information collection, including the validity of the methodology and assumptions used;

(3) Enhance the quality, utility, and clarity of the information to be collected; and

(4) Minimize the burden of the information collection on those who are to respond.

Estimate of burden: Public reporting burden for this collection of information is estimated to average 12 minutes per response.

Estimated annual number of respondents: 1,920.

Estimated annual number of responses per respondent: 1.

Estimated annual number of responses: 1,920.

Estimated total annual burden on respondents: 353.4 hours.

(Due to averaging, the total annual burden hours may not equal the product of the annual number of responses multiplied by the reporting burden per response.)

List of Subjects in 15 CFR Part 50

Census data, Population census, Statistics.

George M. Cook, Chief of Staff to the Under Secretary for Economic Affairs, performing the non-exclusive functions and duties of the Director of the Census Bureau, approved the publication of this notice in the Federal Register.

For reasons set out in the preamble, the Census Bureau proposes to amend 15 CFR part 50 as follows:

PART 50—SPECIAL SERVICES AND STUDIES BY THE BUREAU OF THE CENSUS

1. The authority citation for 15 CFR Part 50 is revised to read as follows:

Authority: 15 U.S.C. 1525-1527; and 13 U.S.C. 3 and 8.

2. Revise § 50.5 to read as follows:

§ 50.5 Fee structure for age search and citizenship information.

Type of service | Fee
Searches of one census for one person and one transcript | $155.00
Each additional copy of census transcript | 2.00
Each full schedule requested ¹ | 10.00
¹ The $10.00 for each full schedule requested is in addition to the $155.00 transcript fee.
Note: An additional charge of $50.00 per case is charged for expedited requests requiring search results within one day.

Dated: February 18, 2026.
Shannon Wink,
Program Analyst, Policy Coordination Office, U.S. Census Bureau.

[FR Doc. 2026-03494 Filed 2-20-26; 8:45 am]

BILLING CODE 3510-07-P